DEPARTMENT OF LABOR

Employment and Training Administration

[TA-W-64,217; TA-W-64,217A]

ICG Castings, Inc., Including On-Site Leased Workers From Beacon Services, Dowagiac, MI; ICG Berrien, Inc., Including On-Site Leased Workers From Beacon Services, Bridgman, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 3, 2008, applicable to workers of ICG Castings, Inc., Dowagiac, Michigan and ICG Berrien, Inc., Bridgman, Michigan. The notice was published in the Federal Register on December 18, 2008 (73 FR 77067).

At the request of the State agency, the Department reviewed the certification for workers of the subject firm. The workers were engaged in the production of aluminum castings. The workers are separately identifiable by location, but not by product.

New information shows that workers leased from Beacon Services were employed on-site at the Dowagiac, Michigan location of ICG Castings, Inc., and the Bridgman, Michigan location of ICG Berrien, Inc. The Department has determined that these workers were sufficiently under the control of ICG Castings, Inc., and ICG Berrien, Inc. to be considered leased workers.

Based on these findings, the Department is amending this certification to include workers leased from Beacon Services working on-site at the Dowagiac, Michigan location of ICG Castings, Inc. and the Bridgman, Michigan location of ICG Berrien, Inc.

The intent of the Department's certification is to include all workers employed at ICG Castings, Inc., Dowagiac, Michigan and ICG Berrien, Inc., Bridgman, Michigan who were adversely affected by a shift in production of aluminum castings to Canada.

The amended notice applicable to TA-W-64,217 and TA-W-64,217A are hereby issued as follows:

All workers of ICG and Castings, Inc., including on-site leased workers of Beacon Services, Dowagiac, Michigan (TA-W-64,217) and ICG Berrien, Inc., including on-site leased workers of Beacon Services, Bridgman, Michigan (TA-W-64,217A), who became totally or partially separated from employment on or after September 15, 2007 through December 3, 2010, are eligible to apply for adjustment assistance under Section 223 of the Trade Act of 1974, and are also eligible to apply for alternative trade adjustment assistance under Section 246 of the Trade Act of 1974.

Signed at Washington, DC, this 30th day of January 2009.
Richard Church,
Certifying Officer, Division of Trade Adjustment Assistance.

[FR Doc. E9-3035 Filed 2-12-09; 8:45 am]

BILLING CODE 4510-FN-P